DEPARTMENT OF EDUCATION

RIN 1865-ZA01

[CFDA No. 84.184.E]

Notice of Proposed Priority

AGENCY: Office of Safe and Drug-Free Schools, Department of Education.

ACTION: Notice of proposed priority and other application requirements.

SUMMARY: We propose a priority and other application requirements under the Emergency Response and Crisis Management Grant program. We may use this priority and the application requirements for competitions in Fiscal Year (FY) 2004 and in later years. We take this action to focus Federal financial assistance on supporting grants to local educational agencies (LEAs) in improving and strengthening emergency response and crisis management plans that address the four phases of crisis planning: Prevention/Mitigation, Preparedness, Response, and Recovery. Plans must include training for school personnel, students, and parents in emergency response procedures and must include coordination with local law enforcement, public safety, health, and mental health agencies.

DATES: We must receive your comments on or before April 26, 2004.

ADDRESSES: Address all comments about this proposed priority and other application requirements to Sara Strizzi, 400 Maryland Avenue, SW., Washington, DC 20202-6450. If you prefer to send your comments through the Internet, use the following address: Sara.Strizzi@ed.gov.

FOR FURTHER INFORMATION CONTACT: Sara Strizzi. Telephone: (202) 708-4850 or via Internet: Sara.Strizzi@ed.gov.

If you use a telecommunications devise for the deaf (TDD), you may call the Federal Information Relay Service (FIRS) at 1-888-877-8339.

Individuals with disabilities may obtain this document in an alternative format (e.g. Braille, large print, audiotape, or computer diskette) on request to the contact person listed under FOR FURTHER INFORMATION CONTACT.

SUPPLEMENTARY INFORMATION:

Invitation to Comment

We invite you to submit comments regarding this proposed priority and other application requirements.

We invite you to assist us in complying with the specific requirements of Executive Order 12866 and its overall requirement of reducing regulatory burden that might result from this proposed priority and other application requirements. Please let us know of any further opportunities we should take to reduce potential costs or increase potential benefits while preserving the effective and efficient administration of the program.

During and after the comment period, you may inspect all public comments about this proposed priority and other application requirements in 400 Maryland Ave, SW., room 3E320, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority and other application requirements. If you want to schedule an appointment for this type of aid, please contact the person listed under FOR FURTHER INFORMATION CONTACT.

We propose this priority and other application requirements under the Safe and Drug-Free Schools and Communities National Programs to focus on the important need of LEAs to strengthen and improve school crisis plans in coordination with community-based partners.

We will announce the final priority and other application requirements in a notice in the Federal Register. We will determine the final priority and other application requirements after considering responses to this notice and other information available to the Department. This notice does not preclude us from proposing or funding additional priorities or other application requirements, subject to meeting applicable rulemaking requirements.

Note: This notice does not solicit applications. In any year in which we choose to use this proposed priority and other application requirements, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority: Improvement and Strengthening of School Emergency Response and Crisis Management Plans

The events of September 11, 2001, made schools and communities aware that in addition to planning for traditional crises and emergencies, schools must now plan to respond to possible terrorist attacks on campus or in the community. The proposed priority supports LEA projects to improve and strengthen emergency response and crisis management plans, at the district and school building level, addressing the four phases of crisis planning: Prevention/Mitigation, Preparedness, Response, and Recovery. Plans must include training for school personnel, students, and parents in emergency response procedures and must include coordination with local law enforcement, public safety, health, and mental health agencies.

Other Application Requirements

In order to develop high-quality emergency response and crisis management plans under this priority, LEAs need to involve community partners in all aspects of planning. We propose establishing the following application requirements:

To be considered for a grant award, we propose that an applicant include in its application an agreement that details the participation of the LEA and the following five community-based partners from the local area: law enforcement, public safety, health, mental health, and the head of the applicant's local government (for example the mayor, city manager, or county executive). The agreement must detail the roles and responsibilities that each of the required partners will have in improving and strengthening the plan. The agreement must also reflect each partner's commitment to sustainability and continuous improvement of the plan. Finally, the agreement must include an authorized signature representing the LEA and each community-based partner.

If one or more of the five partners listed is not present in the applicant's community, or cannot feasibly participate, the agreement must explain the absence of each missing partner. To be considered eligible for funding, however, an application must include signed agreements from at least the LEA and two of the required five partners, and explanations for the absence of any of the remaining required partners.

Applications that fail to include the required agreement, including roles and responsibilities, commitment to sustainability and continuous improvement (with signatures and explanations for missing signatures as specified above), will not be read.

Furthermore, all emergency response and crisis management plans must be coordinated with the Homeland Security Plan of the State in which the LEA is located. All States submitted such a plan to the Department of Homeland Security on January 30, 2004. To ensure that emergency services are coordinated within the State, the LEA must follow the requirements of the State Homeland Security Plan for informing and working with State personnel on emergency services and initiatives.

Although this program requires partnerships with other parties, administrative direction and fiscal control for the project must remain with the local educational agency.

The plan must also take into consideration the communication, transportation, and medical needs of individuals with disabilities within this community.

We also propose that grantees who received funding under this priority in FY 2003 are not eligible applicants for FY 2004.

Executive Order 12866

This notice of proposed priority and other application requirements has been reviewed in accordance with Executive Order 12866. Under the terms of the order, we have assessed the potential costs and benefits of this regulatory action.

The potential costs associated with the notice of proposed priority and other application requirements are those resulting from statutory requirements and those we have determined as necessary for administering this program effectively and efficiently.

In assessing the potential costs and benefits both quantitative and qualitative—of this notice of proposed priority and other application requirements, we have determined that the benefits of the proposed priority and other application requirements justify the costs.

We have also determined that this regulatory action does not unduly interfere with State, local, and tribal governments in the exercise of their governmental functions.

Summary of potential costs and benefits:

The potential cost associated with this proposed priority and other application requirements is minimal while the benefits are significant. Grantees may anticipate costs with completing the application process in terms of staff and partner time, copying, and mailing or delivery. The use of E-Application technology reduces mailing and copying costs significantly.

The benefit of this proposed priority and other application requirements is that grantees that develop a comprehensive emergency response and crisis management plan that includes training and that is implemented in coordination with community partners may mitigate the financial and human impact of a crisis in their district.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program. Applicable Program Regulations: 34 CFR parts 75, 77, 79, 80, 81, 82, 84, 85, 97-99, and 299.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about PDF, call the U.S. Government Printing Office (GPO), toll free, at 1-888-293-6498; or in the Washington, DC, area, at (202) 512-1530.

Note: The official version of this document is the document published in the Federal Register. Free Internet access to the official edition of the Federal Register and the Code of Federal Regulations is available on GPO Access at: http://www.gpoaccess.gov/nara/index.html.

(Catalog of Federal Domestic Assistance Number 84.184.E—Emergency Response and Crisis Management Grant program)

Program Authority: 20 U.S.C. 7131.

Dated: March 22, 2004.
Deborah A. Price,
Deputy Under Secretary for Safe and Drug-Free Schools.

[FR Doc. 04-6726 Filed 3-24-04; 8:45 am]

BILLING CODE 4000-01-P